DEPARTMENT OF THE INTERIOR

Minerals Management Service

Outer Continental Shelf (OCS) Policy Committee; Notice and Agenda for Meeting

AGENCY: Minerals Management Service, Interior.

ACTION: Notice of meeting postponement.

SUMMARY: The OCS Policy Committee meeting scheduled for October 20-21, 2004, at the Holiday Inn Capitol in Washington, DC has been postponed until November.

DATES: Wednesday, November 17, 2004, from 8:30 a.m. to 5 p.m. and Thursday, November 18, 2004, from 8:30 a.m. to 12 p.m.

ADDRESSES: The Holiday Inn Capitol Hotel, 550 C Street, SW., Washington, DC 20024, telephone (202) 479-4000.

FOR FURTHER INFORMATION CONTACT: Ms. Jeryne Bryant at Minerals Management Service, 381 Elden Street, Mail Stop 4001, Herndon, Virginia 20170-4187. She can be reached by telephone at (703) 787-1211 or by electronic mail at jeryne.bryant@mms.gov.

SUPPLEMENTARY INFORMATION: The OCS Policy Committee represents the collective viewpoint of coastal states, local government, environmental community, industry and other parties involved with the OCS Program. It provides policy advice to the Secretary of the Interior through the Director of the MMS on all aspects of leasing, exploration, development, and protection of OCS resources.

The agenda for Wednesday, November 17 will cover the following principal subjects:

Overview of Global Oil and Gas and the Developing LNG Market in North America. This presentation will address the latest trends on oil and gas and the liquefied natural gas market with an emphasis on how it relates to DOI's role.

OCS and MMS Role in the Domestic Energy Picture. This presentation will address MMS's mission and business practices in managing mineral resource development on the OCS.

MMS Regional Issues. The Regional Directors will highlight activities off the California and Alaska coasts and the Gulf of Mexico.

Future Planning. This presentation will address the 5-Year Oil and Gas Program 2007-2012 and ways to prepare for future decision or direction of the Program.

Multiple Use of Existing Infrastructure. This presentation will address conversion of OCS oil and gas infrastructure for other uses, proposed legislation and MMS's commitment to the challenge.

The agenda for Thursday, November 18 will cover the following principal subjects:

Committee Business. The new Committee will establish operating procedures and elect officers.

U.S. Commission on Ocean Policy. This presentation will highlight the Commission's final report and its recommendations for a national ocean policy.

The meeting is open to the public. Approximately 100 visitors can be accommodated on a first-come-first-served basis.

Upon request, interested parties may make oral or written presentations to the OCS Policy Committee. Such requests should be made no later than November 10, 2004, to Jeryne Bryant. Requests to make oral statements should be accompanied by a summary of the statement to be made. Please see FOR FURTHER INFORMATION CONTACT section for address and telephone number.

Minutes of the OCS Policy Committee meeting will be available for public inspection and copying at the MMS in Herndon, Virginia.

Authority: Federal Advisory Committee Act, Pub. L. 92-463, 5 U.S.C. appendix 1, and the Office of Management and Budget's Circular No. A-63, Revised.

Dated: October 15, 2004.
Thomas A. Readinger,
Associate Director for Offshore Minerals Management.

[FR Doc. 04-23576 Filed 10-20-04; 8:45 am]

BILLING CODE 4310-MR-P